DEPARTMENT OF TRANSPORTATION

National Highway Traffic Safety Administration

[Docket No. NHTSA-2019-0113]

Agency Information Collection Activities; Notice and Request for Comment; Vehicle Information for the General Public

AGENCY: National Highway Traffic Safety Administration (NHTSA), Department of Transportation (DOT).

ACTION: Notice and request for comments on a reinstatement of a previously approved collection of information.

SUMMARY: The National Highway Traffic Safety Administration (NHTSA) seeks public comment about our intention to request the Office of Management and Budget's approval on the reinstatement of a previously approved information collection. Before a Federal agency can collect certain information from the public, it must receive approval from the Office of Management and Budget (OMB). Under procedures established by the Paperwork Reduction Act of 1995, before seeking OMB approval, Federal agencies must solicit public comment on proposed collections of information, including extensions and reinstatement of previously approved collections. This document describes one collection of information concerning vehicle safety features for consumer information purposes for which NHTSA intends to seek OMB approval (OMB Control number 2127-0629).

DATES: Comments should be submitted on or before September 8, 2020.

ADDRESSES: You may submit comments [identified by Docket No. NHTSA-2019-0113] through one of the following methods:

• Federal eRulemaking Portal: Go to http://www.regulations.gov. Follow the online instructions for submitting comments. Mail: Docket Management Facility; M-30, U.S. Department of Transportation, West Building Ground Floor, Rm. W12-140, 1200 New Jersey Avenue SE, Washington, DC 20590.

• Hand Delivery or Courier: West Building Ground Floor, Room W12-140, 1200 New Jersey Avenue SE, Washington, DC 20590 between 9 a.m. and 5 p.m. Eastern Time, Monday through Friday, except Federal holidays.

• Fax: (202) 493-2251.

Regardless of how you submit your comments, please be sure to mention the docket number of this document and identify the proposed collection of information for which a comment is provided, by referencing its OMB clearance number.

Note: All comments received will be posted without change to http://www.regulations.gov, including any personal information provided. Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://www.regulations.gov or the street address listed above. Follow the online instructions for accessing the dockets.

FOR FURTHER INFORMATION CONTACT: Complete copies of each request for collection of information may be obtained at no charge from Ms. Johanna Lowrie, U.S. Department of Transportation, NHTSA, Room W43-410, 1200 New Jersey Ave. SE, Washington, DC 20590. Ms. Lowrie's telephone number is (202) 366-5269. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. In compliance with these requirements, NHTSA asks for public comment on the following proposed collection of information:

Title: Vehicle Information for the General Public.

OMB Control Number: 2127-0629.

Type of Request: Reinstatement of a previously approved collection.

Type of Review Requested: Regular.

Length of Approval Requested: Three Years.

Abstract: NHTSA's mission is to save lives, prevent injury, and reduce motor vehicle crashes. Consumer information programs are an important tool for improving vehicle safety through market forces. Pursuant to 49 U.S.C. 32302, the Secretary of Transportation (NHTSA by delegation) is directed to provide to the public the following information about passenger motor vehicles: Damage susceptibility; crashworthiness, crash avoidance, and any other areas the Secretary determines will improve safety of passenger motor vehicles; and the degree of difficulty of diagnosis and repair of damage to, or failure of, mechanical and electrical systems. For more than 40 years, under its New Car Assessment Program (NCAP), NHTSA has been providing consumers with vehicle safety information such as frontal and side crash results, crash avoidance performance test results, rollover propensity, and the availability of a wide array of safety features provided on new model year vehicles. Additionally, the agency uses this safety feature information when responding to consumer inquiries and analyzing rulemaking petitions and the regulatory impacts of Congressional Acts that require the agency to issue or consider issuing new rules that would mandate certain vehicle safety features.

NHTSA has another information collection to obtain data related to motor vehicle compliance with the agency's Federal motor vehicle safety standards. Although the consumer information collection data (requested by NCAP) is distinct and unique from the compliance data, respondents to both collections are similar. Thus, the consumer information collection is closely coordinated with the compliance collection to enable responders to assemble the data more efficiently. The burden is further reduced by sending electronic files to the respondents so that they can enter the data and return it to the agency electronically.

Affected Public: Manufacturers that sell passenger cars and light truck vehicles (including sport utility vehicles, pickup trucks, and vans) that have a Gross Vehicle Weight Rating (GVWR) of 10,000 pounds or less in the United States.

Estimated Number of Respondents: 21.

Frequency: Annually.

Number of Responses: 21.

The consumer information collected will be used to disseminate vehicle safely information via the agency's www.nhtsa.gov website, in the “Purchasing with Safety in Mind: What to look for when buying a new vehicle” brochure, and in other consumer publications, as well as for internal agency analyses and responses to consumer inquiries.

There are approximately 21 vehicle manufacturers that sell passenger cars and light truck vehicles (including sport utility vehicles, pickup trucks, and vans) in the United States with a Gross Vehicle Weight Rating of 10,000 pounds or less, that NHTSA requests annually to respond to this information request. These 21 vehicle manufacturers produce an aggregate of approximately 400 vehicle models each year. Estimates are based on an expected 5 hours to prepare the request for each vehicle model. In addition, the estimate on total annual burden hours for each task is based on a proportion of the job function (e.g., 50 percent for data entry; 40 percent for technical information validation; 10 percent for technical content approval).

Estimated Total Annual Burden Hours: 2,000 hours.

Number of vehicle models: 400.

Number of hours per vehicle model: 5.

Total annual burden hours: 2,000 = (5 hours/model × 400 models).

| Vehicle models per year | Estimated hours per vehicle | Estimated total annual burden hours
Preparation of Response | 400 | 5 | 2,000

A breakdown of the total annual burden hours (2,000) for this collection of information by labor type is as follows:

Burden hours for data entry = 2,000 hours × 50 percent = 1,000 hours.

Burden hours for technical information validation = 2,000 hours × 40 percent = 800 hours.

Burden hours for technical content approval = 2,000 hours × 10 percent = 200 hours.

| Hours by labor type: Percentage of total hours | Hours by labor type: Number of hours
Data Entry | 50 | 1,000
Technical Information Validation | 40 | 800
Technical Content Approval | 10 | 200

Estimated Annual Labor Costs: $127,035.

Cost associated with data entry = 1,000 hours × $36.51 ¹ per hour/0.701 ² = $52,083.

¹ “Motor Vehicle Manufacturing—May 2016 OES Industry-Specific Occupational Employment and Wage Estimates.” March 31, 2017. Business Operations Specialists, Occupation Code 13-1000; Mean Hourly Wage = $36.51. https://www.bls.gov/oes/2016/may/naics4_336100.htm. Accessed Dec. 9, 2019.

² See Table 1 at https://www.bls.gov/news.release/pdf/ecec.pdf for the total compensation rate for the employer for private workers.

Cost associated with technical information validation = 800 hours × $50.27 ³ per hour/0.701 = $57,369.

³ “Motor Vehicle Manufacturing—May 2016 OES Industry-Specific Occupational Employment and Wage Estimates.” March 31, 2017. Operations Specialties Managers, Occupation Code 11-3000; Mean Hourly Wage = $50.27. https://www.bls.gov/oes/2016/may/naics4_336100.htm. Accessed Dec. 9, 2019.

Cost associated with technical content approval = 200 hours × $61.63 ⁴ per hour/0.701 = $17,583.

⁴ “Motor Vehicle Manufacturing—May 2016 OES Industry-Specific Occupational Employment and Wage Estimates.” March 31, 2017. Advertising, Marketing, Promotions, Public Relations, and Sales Managers, Occupation Code 11-2000; Mean Hourly Wage = $61.63. https://www.bls.gov/oes/2016/may/naics4_336100.htm. Accessed Dec. 9, 2019.

Cost associated with total annual burden hours is $127,035 = ($52,083 + $57,369 + $17,583).

| Average wage | Percent of total compensation | Total compensation rate | Annual hours | Annual labor cost
Data Entry | $36.51 | 70.1 | $52.08 | 1,000 | $52,083
Vehicle Info. Validation | 50.27 | 70.1 | 71.71 | 800 | 57,369
Tech. Content Approval | 61.63 | 70.1 | 87.92 | 200 | 17,583
Estimated Annual Labor Cost for This Information Collection: |  |  |  |  | 127,035

Public comments invited: The agency seeks comment on any aspect of this information collection, including (a) whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

Authority: The Paperwork Reduction Act of 1995; 44 U.S.C. chapter 35; and delegation of authority at 49 CFR 1.95 and 501.8.

Raymond R. Posten,
Associate Administrator for Rulemaking.

[FR Doc. 2020-14569 Filed 7-6-20; 8:45 am]

BILLING CODE 4910-59-P